FEDERAL COMMUNICATIONS COMMISSION

47 CFR Part 73

[DA 00-2832; MM Docket No. 00-250; RM-10025]

Radio Broadcasting Services; Alexandria and Sauk Centre, Minnesota

AGENCY: Federal Communications Commission.

ACTION: Proposed rule.

SUMMARY: The Commission, at the request of Main Street Broadcasting, Inc., licensee of Station KMSR(FM), Sauk Centre, Minnesota, and BDI Broadcasting, Inc., licensee of Station KIKV-FM, Alexandria, Minnesota, proposes the substitution of Channel 232C3 for 232A at Sauk Centre, the reallotment of Channel 232C3 from Sauk Centre to Alexandria, and the modification of Station KMSR's license accordingly; and the reallotment of Channel 264C1 from Alexandria to Sauk Centre, and the modification of Station KIKV's license accordingly. Channel 232C3 can be allotted at Alexandria, Minnesota, in compliance with the Commission's minimum distance separation requirements, with respect to domestic allotments, at petitioner's requested site 8.8 kilometers (5.5 miles) northwest of the community at coordinates 45-55-57 and 95-28-21. Additionally, Channel 264C1 can be reallotted from Alexandria to Sauk Centre in compliance with the Commission's minimum distance separation requirements, with respect to domestic allotments, at a site 15.6 kilometers (9.7 miles) west of the community at coordinates 45-41-03 and 95-08-14.

DATES: Comments must be filed on or before February 5, 2001, and reply comments must be filed by February 20, 2001.

ADDRESSES: Federal Communications Commission, Washington, DC 20554.

In addition to filing comments with the FCC, interested parties should serve the petitioner's counsel, as follows: John Wells King, Esq., Garvey, Schubert and Barer 1000 Potomac Street, NW., Fifth Floor, Washington, DC 20007.

FOR FURTHER INFORMATION CONTACT: Victoria M. McCauley, Mass Media Bureau, (202) 418-2180.

SUPPLEMENTARY INFORMATION: This is a synopsis of the Commission's Notice of Proposed Rule Making, MM Docket No., adopted December 6, 2000, and released December 15, 2000. The full text of this Commission decision is available for inspection and copying during normal business hours in the FCC Reference Center (Room 239), 445 12th Street, SW., Washington, DC. The complete text of this decision may also be purchased from the Commission's copy contractor, International Transcription Services, Inc., (202) 857-3800, 1231 20th Street, NW., Washington, DC 20036.

Provisions of the Regulatory Flexibility Act of 1980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contacts.

List of Subjects in 47 CFR Part 73

Radio broadcasting.

Part 73 of title 47 of the Code of Federal Regulations is proposed to be amended as follows:

PART 73—RADIO BROADCAST SERVICES

1. The authority citation for part 73 continues to read as follows:

Authority: 47 U.S.C. 154, 303, 334 and 336.

§ 73.202 [Amended]

2. Section 73.202(b) the FM Table of Allotments under Minnesota is amended by removing Channel 232A and adding Channel 264C1 at Sauk Centre, and by removing Channel 264C1 and adding Channel 232C3 at Alexandria in numercial order.

Federal Communications Commission.
John A. Karousos,
Chief, Allocations Branch, Policy and Rules Division, Mass Media Bureau.

[FR Doc. 00-32791 Filed 12-26-00; 8:45 am]

BILLING CODE 6712-01-P